DEPARTMENT OF THE INTERIOR

Bureau of Reclamation

Agency Information Collection; Renewal of a Currently Approved Information Collection; Comment Request

AGENCY: Bureau of Reclamation, Interior.

ACTION: Notice of renewal of a currently approved information collection (OMB No. 1006-0002).

SUMMARY: In accordance with the Paperwork Reduction Act of 1995 (44 U.S.C. 3501 et seq.), the Bureau of Reclamation (Reclamation) intends to submit a request for renewal (without revision) of an existing, approved information collection to the Office of Management and Budget (OMB): Recreation Use Data Report, OMB Control Number 1006-0002. As part of its continuing effort to reduce paperwork and respondent burdens, Reclamation invites other Federal agencies, State, local, or tribal governments which manage recreation sites at Reclamation projects; concessionaires, subconcessionaires, and not-for-profit organizations who operate concessions on Reclamation lands; and the public, to comment on this information collection.

DATES: Written comments must be received by the office listed in the addresses section on or before May 5, 2006.

ADDRESSES: Direct comments on the collection of recreation and concession information to: Bureau of Reclamation, Land Resources Office, D-5300, Attention: Mr. Vernon Lovejoy, P.O. Box 25007, Denver, Colorado 80225-0007.

FOR FURTHER INFORMATION CONTACT: For additional information or a copy of the proposed Recreation Data Use Report forms, contact Mr. Lovejoy at the address provided above or by telephone at (303) 445-2913.

SUPPLEMENTARY INFORMATION: Title: Recreation Use Data Report (Form No. 7-2534—Part 1, Managing Partners and Form No. 7-2535—Part 2, Concessionaires).

Abstract: Reclamation collects Reclamation-wide recreation and concession information (1) in support of existing public laws including the Land and Water Conservation Fund Act (Pub. L. 88-578), the Federal Water Project Recreation Act (Pub. L. 89-72), the Federal Lands Recreation Enhancement Act (Pub. L. 108-477); and (2) to fulfill reports to the President and the Congress. This collection of information allows Reclamation to (1) meet the requirements of the Government Performance and Results Act (GPRA), (2) fulfill congressional and financial reporting requirements, and (3) support specific information required by the Land and Water Conservation Fund Act and the Department of the Interior's GPRA-based strategic plan. Collected information will permit relevant program assessments of resources managed by Reclamation, its recreation managing partners, and/or concessionaires for the purpose of implementing Reclamation's mission to manage, develop, and protect water and related resources in an environmentally and economically sound manner in the interest of the American people. Specifically, the collected information provides Reclamation with the ability to (1) evaluate program and management effectiveness pertaining to existing recreation and concessionaire resources and facilities, and (2) validate effective public use of managed recreation resources, located on Reclamation project lands in the 17 Western States.

Frequency: Annually.

Respondents: State, local, or tribal governments; agencies who manage Reclamation's recreation resources and facilities; and commercial concessions, subconcessionaires, and nonprofit organizations located on Reclamation lands with associated recreation services.

Estimated Total Number of Respondents: 275.

Estimated Number of Responses per Respondent: 1.

Estimated Total Number of Annual Responses: 275.

Estimated Total Annual Burden on Respondents: 138 hours.

Estimate of Burden for Each Form:

Form No. | Burden estimate per form (in minutes) | Annual number of respondents | Annual burden on respondents (in hours)
7-2534 (Part 1, Managing Partners) | 30 | 160 | 80
7-2535 (Part 2, Concessionaires) | 30 | 115 | 58
Total Burden Hours |  |  | 138

Comments are invited on: (a) Whether the proposed collection of information is necessary for the proper performance of the functions of Reclamation, including whether the information will have practical use; (b) the accuracy of Reclamation's estimated burden of the proposed collection of information; (c) ways to enhance the quality, use, and clarity of the information to be collected; and (d) ways to minimize the burden of the collection of information on those who are to respond, including through the use of automated collection techniques or other forms of information technology.

We will summarize all comments received regarding this notice. We will publish that summary in the Federal Register when the information collection request is submitted to OMB for review and approval.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Roseann Gonzales,
Director, Office of Program and Policy Services, Denver Office.

[FR Doc. E6-3120 Filed 3-3-06; 8:45 am]

BILLING CODE 4310-MN-P